FEDERAL MARITIME COMMISSION

[Docket No. 04-06]

San Antonio Maritime Corp., and Antilles Cement Corp., v. Puerto Rico Ports Authority; Notice of Filing of Complaint and Assignment

Notice is given that a complaint has been filed by the San Antonio Maritime Corp., and Antilles Cement Corp., (“Complaints”) against the Puerto Rico Ports Authority (“Respondent”). Complaints contend that Respondent has engaged in unjust, unreasonable, and unlawful practices in violation of section 10(d)(1); unreasonably refused to deal or negotiate in violation of sections 10(d)(3) and 10(b)(10); and imposed undue or unreasonable prejudice or disadvantage in violation of section 10(d)(4), of the Shipping Act of 1984, 46 U.S.C. app. 1709(d)(1), (3), and and (4), and 1709(b)(10). As a direct result of these allegations, Complainants claim that they have suffered and will continue to suffer substantial ongoing economic damages and injury valued at not less than $20 million. Complainants seek an order directing Respondent to cease and desist; establish and put into force such practices as the Commission determines to be lawful and reasonable; pay Complainants reparations, interest, costs, and attorneys fees and any other damages to be determined; and take any other such action or provide any other such relief as the Commission determines to be warranted.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by April 26, 2005 and a final decision of the Commission shall be issued by August 24, 2005.

Bryant L. VanBrakle,
Secretary.

[FR Doc. 04-9737 Filed 4-28-04; 8:45 am]

BILLING CODE 6730-01-P